DEPARTMENT OF ENERGY

Federal Energy Regulatory Commission

Combined Notice of Filings

Take notice that the Commission has received the following Natural Gas Pipeline Rate and Refund Report filings:

Filings Instituting Proceedings

Docket Numbers: RP12-609-000.

Applicants: Texas Gas Transmission, LLC.

Description: Report Filing: 2017 Operational Purchases and Sales Report.

Filed Date: 5/1/18.

Accession Number: 20180501-5011.

Comments Due: 5 p.m. ET 5/14/18.

Docket Numbers: RP13-212-000.

Applicants: Boardwalk Storage Company, LLC.

Description: Report Filing: 2017 Operational Purchases and Sales Report.

Filed Date: 5/1/18.

Accession Number: 20180501-5012.

Comments Due: 5 p.m. ET 5/14/18.

Docket Numbers: RP13-584-006.

Applicants: Columbia Gas Transmission, LLC.

Description: Compliance filing Revenue Sharing Report 2018.

Filed Date: 5/1/18.

Accession Number: 20180501-5013.

Comments Due: 5 p.m. ET 5/14/18.

Docket Numbers: RP18-763-000.

Applicants: Gulf Crossing Pipeline Company LLC.

Description: § 4(d) Rate Filing: Amendment to Neg Rate Agmt (BP 37-27) to be effective 5/1/2018.

Filed Date: 5/1/18.

Accession Number: 20180501-5006.

Comments Due: 5 p.m. ET 5/14/18.

Docket Numbers: RP18-764-000.

Applicants: Gulf South Pipeline Company, LP.

Description: § 4(d) Rate Filing: Cap Rel Neg Rate Agmts (Atlanta 8438 to various eff 5-1-2018) to be effective 5/1/2018.

Filed Date: 5/1/18.

Accession Number: 20180501-5005.

Comments Due: 5 p.m. ET 5/14/18.

Docket Numbers: RP18-766-000.

Applicants: Gulf South Pipeline Company, LP.

Description: § 4(d) Rate Filing: Cap Rel Neg Rate Agmts (Southern 41616, 41617 to Emera 49472, 49471) to be effective 5/1/2018.

Filed Date: 5/1/18.

Accession Number: 20180501-5007.

Comments Due: 5 p.m. ET 5/14/18.

Docket Numbers: RP18-767-000.

Applicants: Texas Gas Transmission, LLC.

Description: § 4(d) Rate Filing: Cap Rel Neg Rate Agmts (RE Gas to BP 37151, 37152 eff 5-1-2018) to be effective 5/1/2018.

Filed Date: 5/1/18.

Accession Number: 20180501-5014.

Comments Due: 5 p.m. ET 5/14/18.

Docket Numbers: RP18-768-000.

Applicants: Equitrans, L.P.

Description: § 4(d) Rate Filing: Negotiated Capacity Release Agreements—5/1/2018 to be effective 5/1/2018.

Filed Date: 5/1/18.

Accession Number: 20180501-5015.

Comments Due: 5 p.m. ET 5/14/18.

Docket Numbers: RP18-769-000.

Applicants: Gulf South Pipeline Company, LP.

Description: § 4(d) Rate Filing: Cap Rel Neg Rate Agmts (Petrohawk 41455 releases eff 5-1-2018) to be effective 5/1/2018.

Filed Date: 5/1/18.

Accession Number: 20180501-5026.

Comments Due: 5 p.m. ET 5/14/18.

Docket Numbers: RP18-770-000.

Applicants: Gulf Crossing Pipeline Company LLC.

Description: § 4(d) Rate Filing: Cap Rel Neg Rate Agmts (Newfield 18 releases eff 5-1-2018) to be effective 5/1/2018.

Filed Date: 5/1/18.

Accession Number: 20180501-5033.

Comments Due: 5 p.m. ET 5/14/18.

Docket Numbers: RP18-772-000.

Applicants: Eastern Shore Natural Gas Company.

Description: § 4(d) Rate Filing: Baseline Tariff to be effective 5/1/2018.

Filed Date: 5/1/18.

Accession Number: 20180501-5285.

Comments Due: 5 p.m. ET 5/14/18.

Docket Numbers: RP18-773-000.

Applicants: Eastern Shore Natural Gas Company.

Description: Tariff Cancellation: Cancellation of FERC Gas Tariff, Third Revised Volume No. 1 to be effective 5/1/2018.

Filed Date: 5/1/18.

Accession Number: 20180501-5299.

Comments Due: 5 p.m. ET 5/14/18.

Docket Numbers: RP18-774-000.

Applicants: Gulfstream Natural Gas System, L.L.C.

Description: § 4(d) Rate Filing: 2018 GNGS TUP/SBA Filing to be effective 6/1/2018.

Filed Date: 5/1/18.

Accession Number: 20180501-5301.

Comments Due: 5 p.m. ET 5/14/18.

Docket Numbers: RP18-775-000.

Applicants: Southeast Supply Header, LLC.

Description: § 4(d) Rate Filing: 2018 SESH TUP/SBA Annual Filing to be effective 6/1/2018.

Filed Date: 5/1/18.

Accession Number: 20180501-5305.

Comments Due: 5 p.m. ET 5/14/18.

Docket Numbers: RP18-776-000.

Applicants: Sabal Trail Transmission, LLC.

Description: § 4(d) Rate Filing: 2018 Initial TUP/SBA Filing to be effective 6/1/2018.

Filed Date: 5/1/18.

Accession Number: 20180501-5306.

Comments Due: 5 p.m. ET 5/14/18.

Docket Numbers: RP18-777-000.

Applicants: Great Lakes Gas Transmission Limited Partnership.

Description: § 4(d) Rate Filing: Implementation of TC Plus to be effective 6/1/2018.

Filed Date: 5/1/18.

Accession Number: 20180501-5315.

Comments Due: 5 p.m. ET 5/14/18.

Docket Numbers: RP18-779-000.

Applicants: Enable Gas Transmission, LLC.

Description: § 4(d) Rate Filing: Negotiated Rate Filing—June 2018 Great Salt Plains 1010446 to be effective 6/1/2018.

Filed Date: 5/1/18.

Accession Number: 20180501-5347.

Comments Due: 5 p.m. ET 5/14/18.

Docket Numbers: RP18-780-000.

Applicants: Northern Natural Gas Company.

Description: § 4(d) Rate Filing: 20180501 Negotiated Rate to be effective 5/1/2018.

Filed Date: 5/1/18.

Accession Number: 20180501-5348.

Comments Due: 5 p.m. ET 5/14/18.

Docket Numbers: RP18-781-000.

Applicants: East Cheyenne Gas Storage, LLC.

Description: Compliance filing ECGS 2018 Operational Purchase & Sales.

Filed Date: 5/1/18.

Accession Number: 20180501-5364.

Comments Due: 5 p.m. ET 5/14/18.

Docket Numbers: RP18-782-000.

Applicants: Panther Interstate Pipeline Energy, LLC.

Description: Tariff Cancellation: PIPE Tariff Cancellation Filing to be effective 6/1/2018.

Filed Date: 5/1/18.

Accession Number: 20180501-5365.

Comments Due: 5 p.m. ET 5/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2018.
Nathaniel J. Davis, Sr.,
Deputy Secretary.

[FR Doc. 2018-09750 Filed 5-7-18; 8:45 am]

BILLING CODE 6717-01-P